DEPARTMENT OF HEALTH AND HUMAN SERVICES

National Institutes of Health

National Heart, Lung, and Blood Institute; Amended Notice of Meeting

Notice is hereby given of a change in the meeting of the National Heart, Lung, and Blood Institute Special Emphasis Panel, Catalyze Enabling Technologies, December 4, 2023, 10 a.m. to 12 p.m., National Institutes of Health, Rockledge I, 6705 Rockledge Drive, Bethesda, MD, 20892, which was published in the Federal Register on September 28, 2023, FR Doc 2023-21890, 88 FR 68127.

The National Heart, Lung, and Blood Institute Special Emphasis Panel, Catalyze Enabling Technologies meeting is being amended due to a change of the meeting date and time formats. The meeting will be held on December 5, 2023, from 12 p.m. to 2 p.m. This meeting is closed to the public.

Dated: October 18, 2023.
Melanie J. Pantoja,
Program Analyst, Office of Federal Advisory Committee Policy.

[FR Doc. 2023-23383 Filed 10-23-23; 8:45 am]

BILLING CODE 4140-01-P